DEPARTMENT OF ENERGY

Federal Energy Regulatory Commission

[Docket No. RP99-176-022]

Natural Gas Pipeline Company of America Notice of Proposed Change in FERC Gas Tariff

November 28, 2000.

Take notice that on November 20, 2000, Natural Gas Pipeline Company of America (Natural) tendered for filing to be part of its FERC Gas Tariff, Sixth Revised Volume No. 1, Original Sheet No. 260, to be effective November 22, 2000.

Natural states that the purpose of this filing is to implement a negotiated rate transaction with Wise County Power Company, LP (WCPC) under Natural's Rate Schedule FTS pursuant to Section 49 of the General Terms and Conditions (GT&C) of Natural's Tariff.

Natural concurrently tenders for filing with the Commission, by a separate filing in this docket, the Firm Transportation Negotiated Rate Agreement (Agreement) entered into by Natural and WPC. Natural states that the Agreement does not deviate in any material respects from the applicable form of service agreement in Natural's Tariff. However, Natural submits the Agreement as an aid to Commission Staff because it provides a more detailed explanation of the transaction.

Natural requests waiver of the Commission's Regulations, including the 30-day notice requirement of Section 154.207, to the extent necessary to permit the tariff sheet to become effective November 22, 2000, consistent with Section 49.1(e) of the GT&C of Natural's Tariff.

Natural states that copies of the filing are being mailed to its customers, interested state commissions and all parties set out on the Commission's official service list in Docket No. RP99-176.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30726 Filed 12-1-00; 8:45 am]

BILLING CODE 6717-01-M